DEPARTMENT OF TRANSPORTATION

Federal Aviation Administration

Notice of Intent To Rule on Request To Release Airport Property at the Scholes International Airport, Galveston, Texas

AGENCY: Federal Aviation Administration (FAA), DOT.

ACTION: Notice of request to release airport property.

SUMMARY: The FAA proposes to rule and invite public comment on the release of land at the Scholes International Airport under the provisions of Section 125 of the Wendell H. Ford Aviation Investment Reform Act for the 21st Century (AIR 21).

DATES: Comments must be received on or before April 13, 2017.

ADDRESSES: Comments on this application may be mailed or delivered to the FAA at the following address: Mr. Ben Guttery, Manager, Federal Aviation Administration, Southwest Region, Airports Division, Texas Airports District Office, ASW-650, 10101 Hillwood Parkway, Fort Worth, Texas 76177.

In addition, one copy of any comments submitted to the FAA must be mailed or delivered to Mr. Mike Shahan, Airport Director, at the following address: 2115 Terminal Drive #4, Galveston, Texas 77554.

FOR FURTHER INFORMATION CONTACT: Mr. Anthony Mekhail, Program Manager, Federal Aviation Administration, Texas Airports District Office, ASW-650, 10101 Hillwood Parkway, Fort Worth, TX 76177, Telephone: (817) 222-5663, email: Anthony.Mekhail@faa.gov.

The request to release property may be reviewed in person at this same location.

SUPPLEMENTARY INFORMATION: The FAA invites public comment on the request to release property at the Scholes International Airport under the provisions of the AIR 21. The following is a brief overview of the request:

City of Galveston requests the release of 5.5 acres of non-aeronautical airport property. The property is located on the west side of the airport, along Travel Air Road. The property to be released will be sold and revenues shall be used to build airport-owned hangars whose lease revenue will support maintenance and improvement of the airport. Any person may inspect the request in person at the FAA office listed above under FOR FURTHER INFORMATION CONTACT.

In addition, any person may, upon request, inspect the application, notice and other documents relevant to the application in person at the Scholes International Airport, telephone number (409) 797-3593.

Issued in Fort Worth, Texas, on January 5, 2017.
Ignacio Flores,
Director, Airports Division.

[FR Doc. 2017-04999 Filed 3-13-17; 8:45 am]

BILLING CODE 4910-13-P